DEPARTMENT OF TRANSPORTATION

Federal Motor Carrier Safety Administration

49 CFR Part 395

[Docket No. FMCSA-2018-0248]

RIN 2126-AC19

Hours of Service of Drivers

AGENCY: Federal Motor Carrier Safety Administration (FMCSA), DOT.

ACTION: Notice of public listening session.

SUMMARY: The FMCSA announces that it will hold a public listening session concerning potential changes to its hours-of-service rules for truck drivers. On August 22, 2019, FMCSA published a Notice of Proposed Rulemaking (NPRM) seeking comment on proposed changes to its hours-of-service (HOS) requirements to provide greater flexibility for drivers who are subject to the HOS rules without adversely affecting safety. The listening session will allow interested persons to present comments, views, and relevant research on topics mentioned above. All comments will be transcribed and placed in the rulemaking docket for the FMCSA's consideration. The session will be webcast to allow interested parties to participate remotely.

DATES: The listening session will be held on September 17, 2019. The listening session will begin at 1:00 p.m. local time and end at 3 p.m., or earlier, if all participants wishing to express their views have done so.

ADDRESSES: The listening session will be held at the U.S. Department of Transportation, 1200 New Jersey Avenue SE, Washington, DC 20590.

You may submit comments identified by Docket Number FMCSA-2018-0248 using any of the following methods:

• Federal eRulemaking Portal: http://www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, Washington, DC, between 9 a.m. and 5 p.m., Monday through Friday, except Federal holidays.

• Fax: 202-493-2251.

• Submissions Containing Confidential Business Information (CBI): Mr. Brian Dahlin, Chief, Regulatory Analysis Division, 1200 New Jersey Avenue SE, Washington, DC 20590.

To avoid duplication, please use only one of these four methods. See the “Public Participation and Request for Comments” portion of the SUPPLEMENTARY INFORMATION section for instructions on submitting comments, including collection of information comments for the Office of Information and Regulatory Affairs, OMB.

FOR FURTHER INFORMATION CONTACT: For special accommodations for any of these HOS listening sessions, such as sign language interpretation, contact Shannon L. Watson, Senior Policy Advisor, (202) 385-2395 or at FMCSAregs@dot.gov to allow us to arrange for such services. For information concerning the hours-of-service rules, contact Ms. La Tonya Mimms, Chief, Driver and Carrier Operations Division, (202) 366-4325, mcpsd@dot.gov.

SUPPLEMENTARY INFORMATION:

I. Public Participation and Request for Comments

A. Submitting Comments

If you submit a comment, please include the docket number for this NPRM (Docket No. FMCSA-2018-0248), indicate the specific section of this document to which each section applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2018-0248, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period for the ANPRM. Late comments will be considered to the extent practicable.

Confidential Business Information

Confidential Business Information (CBI) is commercial or financial information that is both customarily and actually treated as private by its owner. Under the Freedom of Information Act (FOIA) (5 U.S.C. 552), CBI is exempt from public disclosure. If your submission contains commercial or financial information that is customarily treated as private, that you actually treat as private, and that is relevant or responsive to the listening session, it is important that you clearly designate the submitted comments as CBI. Please mark any page of your submission that constitutes CBI as “PROPIN” to indicate it contains proprietary information. FMCSA will treat such marked submissions as confidential under the FOIA, and they will not be placed in the public docket of this NPRM and associated listening sessions. Submissions containing CBI should be sent to Brian Dahlin, Chief, Regulatory Analysis Division, 1200 New Jersey Avenue SE, Washington, DC 20590. Any commentary that FMCSA receives which is not specifically designated as CBI will be placed in the public docket for this rulemaking.

FMCSA will consider all comments and material received during the comment period for the NPRM.

B. Viewing Comments and Documents

To view comments, as well as any documents mentioned in this preamble as being available in the docket, go to http://www.regulations.gov. Insert the docket number, FMCSA-2018-0248, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., e.t., Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

On August 14, 2019, FMCSA issued an NPRM concerning amendments to its hours-of-service (HOS) requirements to provide greater flexibility for drivers who are subject to the HOS rules without adversely affecting safety. First, the Agency proposed to change the short-haul exception to the record of duty status (RODS) requirement available to certain commercial motor vehicle (CMV) drivers by lengthening the drivers' maximum on-duty period from 12 to 14 hours and extending the distance limit within which the driver may operate from 100 air miles (115.08 statute miles) to 150 air miles (172.6 statute miles). Second, the Agency proposed to modify the adverse driving conditions exception by extending by 2 hours the maximum window during which driving is permitted. Third, the Agency proposed to increase flexibility for the 30-minute break rule by requiring a break after 8 hours of driving time (instead of on-duty time), and allowing the requirement to be satisfied by an on-duty break from driving, rather than requiring an off-duty break. Fourth, the Agency proposed to modify the sleeper-berth exception to allow drivers to split their required 10-hours off duty into two periods: One period of at least 7 consecutive hours in the sleeper berth and the other period of not less than 2 consecutive hours, either off duty or in the sleeper berth. Neither period would count against the driver's 14-hour driving window. Fifth, the Agency proposed to allow one off-duty break of at least 30 minutes, but not more than 3 hours, that would pause a truck driver's 14-hour driving window, provided the driver takes 10 consecutive hours off-duty at the end of the work shift. The NPRM also posed questions about other HOS-related topics the Agency is considering as part of this rulemaking.

The listening sessions will provide interested persons the opportunity to share their views on these topics with representatives of the Agency.

III. Meeting Participation

The listening sessions are open to the public. Speakers' remarks will be limited to 10 minutes each. The public may submit material to the FMCSA staff at each session for inclusion in the public docket, FMCSA-2018-0248.

Issued on: August 27, 2019.
Alan Hanson,
Deputy Administrator.

[FR Doc. 2019-18978 Filed 8-30-19; 8:45 am]

BILLING CODE 4910-EX-P